NUCLEAR REGULATORY COMMISSION

Advisory Committee on Nuclear Waste; Revised

The 131st ACNW meeting scheduled to be held on January 8-10, 2002, has been changed to a two-day meeting, which will be held on January 8-9, 2002. The ACNW meeting with the NRC Commissioners scheduled to be held between 9:30 and 11:30 a.m. on January 9, 2002 has been canceled, and will be rescheduled for March 20, 2002. Notice of this meeting was previously published in the Federal Register on Wednesday, December 19, 2001, (66 FR 65522). A revised agenda is provided below.

Tuesday, January 8, 2002

A. 8:30—10:45 A.M.: Opening Statement/Planning and Procedures (Open)—The Chairman will open the meeting with brief opening remarks. The Committee will then review items under consideration at this meeting and consider topics proposed for future ACNW meetings.

B. 11:00—12:00 Noon: Proposed Amendment to 10 CFR Part 63 (Open)—The staff will provide an information briefing on the proposed amendment to 10 CFR Part 63, that would clarify the types of features, events, and processes that must be considered in performance analyses of human intrusion and groundwater protection at the Yucca Mountain repository.

C. 1:00—4:45 P.M.: Preparation of ACNW Reports (Open)—The Committee will discuss proposed reports on the following topics:

• ACRS/ACNW November 14, 2001 Joint Subcommittee Meeting on Risk-Informed Regulation in NMSS

• Annual Research Report to the Commission

• Proposed Rule on Probability of an Unlikely Event

• Conservatism

D. 5:00—6:00 P.M.: Planning for ACNW Retreat (Open)—The Committee will finalize plans for its February 27-28—March 1, 2002 retreat.

Wednesday, January 9, 2002

E. 8:30—8:35 A.M.: Opening Remarks by the ACNW Chairman (Open)—The ACNW Chairman will make opening remarks regarding the conduct of the meeting.

F. 8:35—3:00 P.M.: Discussion of Key Technical Issue (KTI) Status (Open)—The Committee will be briefed on the status of the KTIs for the proposed repository at Yucca Mountain, NV.

G. 3:00—6:00 P.M.: ACRS/ACNW Office Retreat (Open)—The Committee will meet with the ACNW technical and operational staffs to discuss issues arising from the ACRS/ACNW Office retreat held on September 19-21, 2001.

H. 6:00—6:15 P.M.: Miscellaneous (Open)—The Committee will discuss matters related to the conduct of Committee activities and matters and specific issues that were not completed during previous meetings, as time and availability of information permit.

Note: The 132nd ACNW Meeting scheduled for February 7, 2002, has been tentatively rescheduled for February 5-7, 2002.

For further information contact: Mr. Howard J. Larson, ACNW (Telephone 301/415-6805), between 8:00 A.M. and 4:00 P.M. EST.

Dated: December 21, 2001.
Andrew L. Bates,
Advisory Committee Management Officer.

[FR Doc. 01-32050 Filed 12-28-01; 8:45 am]

BILLING CODE 7590-01-P